DEPARTMENT OF ENERGY

Federal Energy Regulatory Commission

[Docket No. IC09-65-000; FERC-65]

Commission Information Collection Activities, Proposed Collection; Comment Request; Extension

October 8 , 2008.

AGENCY: Federal Energy Regulatory Commission.

ACTION: Notice.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due November 14, 2008.

ADDRESSES: Copies of sample filings of the proposed information collection can be obtained from the Commission's Web site (http://www.ferc.gov/docs-filings/elibrary.asp) or from the Federal Energy Regulatory Commission, Attn: Michael Miller, Office of the Executive Director, ED-34, 888 First Street, NE., Washington, DC 20426. Comments may be filed either in paper format or electronically. Those parties filing electronically do not need to make a paper filing. For paper filing, the original and 14 copies of such comments should be submitted to the Secretary of the Commission, Federal Energy Regulatory Commission, 888 First Street, NE., Washington, DC 20426 and refer to Docket No. IC09-65-000.

Documents filed electronically via the Internet must be prepared in an acceptable filing format and in compliance with the Commission's submission guidelines. Complete filing instructions and acceptable filing formats are available at http://www.ferc.gov/help.

To file the document, access the Commission's Web site at http://www.ferc.gov, choose the Documents & Filings tab, click on eFiling, then follow the instructions given. First time users will have to establish a user name and password. The Commission will send an automatic acknowledgment to the sender's e-mail address upon receipt of comments.

All comments may be viewed, printed or downloaded remotely via the Internet through the Commission's homepage using the eLibrary link. For user assistance, contact FERConlinesupport@ferc.gov or toll-free at (866) 208-3676 or for TTY, contact (202) 502-8659.

FOR FURTHER INFORMATION CONTACT: Michael Miller, 888 First St., NE., Washington, DC 20426. He may be reached by telephone at (202) 502-8415, by fax at (202) 273-0873, and by e-mail at michael.miller@ferc.gov.

SUPPLEMENTARY INFORMATION: The information collected under the requirements of FERC-65 “Notification of Holding Company Status” (OMB No. 1902-0218) is used by the Commission to implement the statutory provisions of the Public Utility Holding Company Act of 2005 (PUHCA 2005). Among other things, PUHCA 2005 was intended to give the Commission access to books and records relevant to costs incurred by a public utility or natural gas company which are necessary or appropriate for the protection of utility customers with respect to jurisdictional rates. For the Commission to carry out its rate regulation responsibilities, it must know who the entities are that are holding companies of jurisdictional public utilities and natural gas companies. The Commission obtains this information through the FERC-65 filings.

The FERC-65 is a one-time informational filing set out in the Commission's regulations 18 CFR 366.4 that must be submitted within 30 days of becoming a holding company. The information is required in no specific format and consists of the identity of the holding company and of the public utilities and natural gas companies in the holding company system and the identity of service companies, including special-purpose subsidiaries providing non-power goods and services and the identity of all affiliates and subsidiaries and their corporate relationship to each other. Filings may be submitted in hardcopy or electronically through the Commission's eFiling system.

Action: The Commission is requesting a three-year extension of the current expiration date.

Burden Statement: Public reporting burden for this collection is estimated as:

Number of respondents annually | Number of responses per respondent | Average burden hours per response | Total annual burden hours
(1) | (2) | (3) | (1) × (2) × (3)
30 | 1 | 3 | 90

The estimated total cost to respondents is $5,468. [90 hours divided by 2080 hours ¹ per year, times $126,384 ² equals $5,468.54]. The average cost per respondent is $182.28.

¹ Number of hours an employee works each year.

² Average annual salary per employee.

The reporting burden includes the total time, effort, or financial resources expended to generate, maintain, retain, disclose, or provide the information including: (1) Reviewing instructions; (2) developing, acquiring, installing, using technology and systems for the purposes of collecting, validating, verifying, processing, maintaining, disclosing and providing information; (3) adjusting the existing ways to comply with any previously applicable filing instructions and requirements; (4) training personnel to respond to a collection of information; (5) searching data sources; (6) completing and reviewing the collection of information; and (7) transmitting, or otherwise disclosing the information.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the information collection is necessary for the proper performance of the functions of the Commission; (2) the accuracy of the Commission's burden estimate of the proposed information collection, including the validity of the methodology and assumptions used to calculate the reporting burden; and (3) ways to enhance the quality, utility and clarity of the information to be collected.

Kimberly Bose,
Secretary.

[FR Doc. E8-24491 Filed 10-15-08; 8:45 am]

BILLING CODE 6717-01-P